DEPARTMENT OF THE INTERIOR

Fish and Wildlife Service

[FWS-R8-R-2012-N005; FXRS12650800000-123-FF08R0000]

Don Edwards San Francisco Bay National Wildlife Refuge, Alameda, Santa Clara, and San Mateo Counties, CA

AGENCY: Fish and Wildlife Service, Interior.

ACTION: Notice of availability; request for comments: draft comprehensive conservation plan/environmental assessment.

SUMMARY: We, the U.S. Fish and Wildlife Service (Service) announce the availability of a Draft Comprehensive Conservation Plan (CCP) and Environmental Assessment (EA) for the Don Edwards San Francisco Bay National Wildlife Refuge for public review and comment. The CCP/EA, prepared under the National Wildlife Refuge System Improvement Act of 1997, and in accordance with the National Environmental Policy Act of 1969, describes how the Service proposes to manage the Refuge for the next 15 years. Draft compatibility determinations for several existing and proposed uses are also available for review and public comment with the Draft CCP/EA.

DATES: To ensure consideration, we must receive your written comments by July 2, 2012.

ADDRESSES: Send your comments or requests for more information by any of the following methods.

Email: sfbaynwrc@fws.gov. Include “Don Edwards SFB CCP” in the subject line of the message.

Fax: Attn: Winnie Chan, (510) 792-5828.

U.S. Mail: San Francisco Bay National Wildlife Refuge Complex, 1 Marshlands Road, Fremont, CA 94555.

In-Person Drop-off: You may drop off comments during regular business hours, please call (510) 792-0222 for directions.

FOR FURTHER INFORMATION CONTACT: Winnie Chan, Refuge Planner, or Eric Mruz, Refuge Manager, at (510) 792-0222 or sfbaynwrc@fws.gov

SUPPLEMENTARY INFORMATION: The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation. We will review and update the CCP at least every 15 years in accordance with the Improvement Act.

We initiated the CCP/EA for the Don Edwards San Francisco Bay National Wildlife Refuge in October 2009. We then hosted a series of pre-scoping meetings on October 28, 2009; November 3, 2009; and November 5, 2009. An average of 10 persons attended each of the meetings. A number of individuals provided comments at the meetings, via email, and by postal mail. Following the pre-scoping meetings, we published a Federal Register notice of intent on February 23, 2010 (75 FR 8106), to solicit additional comments. To announce the scoping comment period and provide background on the Refuge, we also mailed a planning update to over 200 agency and organization representatives, including members of the public, media, and elected representatives of each of the counties where the Refuge is located. The scoping comment period ended on April 26, 2010. We also created a web page (http://www.fws.gov/cno/refuges/DonEdwards/DonEdwards.cfm) to share information. In 2011, we hosted another series of public meetings on April 13, 2011 and April 19, 2011 to present management alternatives. An average of 15 persons attended each of these meetings. Verbal comments were recorded at these public meetings, and written comments were submitted via postal mail and email.

Background

Don Edwards San Francisco Bay National Wildlife Refuge was established in 1972 pursuant to the Act Authorizing the Transfer of Certain Real Property for Wildlife, or other purposes (16 U.S.C. 667b), Endangered Species Act of 1973 (16 U.S.C. 1537), and the Fish and Wildlife Act of 1956 (16 U.S.C. 742f(b)(1)). The roughly 30,000-acre Don Edwards San Francisco Bay National Wildlife Refuge, located in the Alameda, Santa Clara, and San Mateo Counties of California, consists of several noncontiguous parcels divided into four management units that surround the southern edge of the San Francisco Bay. The Refuge was established to preserve and enhance wildlife habitat, protect migratory birds, and protect threatened and endangered species. The Refuge also provides opportunities for wildlife-dependent recreation and environmental education.

Alternatives

The Draft CCP/EA identifies and evaluates three alternatives for managing the Don Edwards San Francisco Bay National Wildlife Refuge for the next 15 years. The alternative that appears to best meet the Refuge purposes is identified as the preferred alternative. The preferred alternative is identified based on the analysis presented in the Draft CCP/EA, which may be modified following the completion of the public comment period based on comments received from other agencies, Tribal governments, nongovernmental organizations, or individuals.

Under Alternative A (no action alternative), the current management actions, including habitat management, wildlife management, wildlife-oriented recreation opportunities, and environmental education, would be continued. Habitat and wildlife management activities would include habitat restoration projects, invasive weed management, wildlife surveys, and predator management. We would continue to offer a wide variety of wildlife-oriented recreation opportunities to the public. The environmental education program would continue to provide a variety of environmental education activities for local schools. Also, we would continue to use volunteers to support the biology, visitor services, environmental education, and management needs of the Refuge. Current staffing and funding would remain the same. Existing restoration and management plans (e.g., Bair Island Restoration and Management Plan and South Bay Salt Pond Restoration Project) would continue to be implemented. We would also actively work with partners and willing sellers to acquire the remaining lands within the approved acquisition boundary.

Alternative B (preferred alternative) includes those actions in Alternative A. In addition, we would moderately expand biological, habitat management, visitor service, and environmental education activities. Additional biological activities would include increased survey efforts on priority listed species as well as baseline surveys on native focal flora and fauna. Habitat would be improved for the western snowy plover and California least tern. Other habitat management activities include completion and implementation of a comprehensive weed management plan, additional improvement to tidal marsh areas such as enhancement and restoration of the marsh-upland ecotone, and addressing climate change impacts on Refuge resources. The National Wildlife Refuge System's priority public uses—wildlife observation, photography, hunting, fishing, interpretation, and environmental education—would all be enhanced on the Refuge. Refuge staff would expand the volunteer program to recruit new volunteers and provide additional learning opportunities to existing volunteers. Additional staff and funding would be needed to implement this alternative.

Under Alternative C, in addition to tasks included in Alternative A and B, we would increase the frequency of baseline monitoring, investigate reintroduction of listed species (e.g., the salt marsh harvest mouse and the California clapper rail), survey for listed plant species, and encourage additional research to benefit listed species. Additional habitat management actions would include further tidal marsh improvements, more aggressive control of invasive weeds, revegetation of grassland areas, and more aggressive enhancement and restoration of the marsh-upland ecotone. All priority public uses would be further improved, such as opening additional acreage to hunting, installing additional interpretive signage, constructing an auto tour route, and enhancing the environmental education program offsite, beyond the existing field trip experience. Additional staff and funding would be needed to implement this alternative.

Review and Comment

Copies of the Draft CCP/EA may be obtained by writing to Winnie Chan (see ADDRESSES). Copies of the Draft CCP/EA may be viewed at the same address and local libraries. The Draft CCP/EA will also be available for viewing and downloading online at: http://www.fws.gov/cno/refuges/DonEdwards/DonEdwards.cfm.

Comments on the Draft CCP/EA should be addressed to Winnie Chan (see ADDRESSES).

At the end of the review and comment period for this Draft CCP/EA, comments will be analyzed by the Service and addressed in the Final CCP/EA. Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region, Sacramento, California.

[FR Doc. 2012-11811 Filed 5-15-12; 8:45 am]

BILLING CODE 4310-55-P